DEPARTMENT OF DEFENSE

Department of the Army; Corps of Engineers

North Atlantic Coast Comprehensive Study

AGENCY: Department of the Army, U.S. Army Corps of Engineers, DoD.

ACTION: Notice of study initiation; correction on study review.

SUMMARY: Information included in the Federal Register Notice published on June 19, 2013, 78 FR 36753, has changed. The notice published on June 19, 2013 stated: “A draft of the North Atlantic Coast Comprehensive Study will be available for public review and comment in early 2014 and a final report is due to Congress in January 2015.” As the study advanced, it has been determined that formal public review and comment period of a draft of the North Atlantic Coast Comprehensive Study report document will not occur in early 2014 as previously stated. However, in order to prepare a report in the legislatively set time frame for completion of 24 months and to embrace the extensive geographic area impacted by Hurricane Sandy, as well as to promote public involvement throughout, various mechanisms to provide information to the public and solicit input have been established. The Study's public Web site, launched in May 2013, has allowed for public input on resiliency and other key aspects of the Study, and offers interested stakeholders the opportunity to receive updates on the Study as they become available. In addition, a Federal Register notice was published on October 4, 2013 requesting peer reviewed data relevant to the Comprehensive Study. Submissions were accepted through December 31, 2013, to allow for adequate time to review and consider for incorporation. This input, as well as input gathered from public engagements, is being used in development of the Comprehensive Study. In addition, the Comprehensive Study has sought to engage technical subject matter experts across all levels of government, academia, NGO's, and the private sector, on a national and international basis. PL 113-2 specifically requires the North Atlantic Coast Comprehensive Study to be conducted in coordination with other federal agencies, and state, local, and tribal officials to ensure consistency with other plans to be developed. While the Study is not a Decision Document, it has been scoped as a foundation and catalyst for further evaluation of coastal flood risk. Subsequent federal agency decision documents would likely include a public comment period required for screening feasible alternatives in accordance with the National Environmental Policy Act.

ADDRESSES: For media contacts please contact Mr. Justin Ward, U.S. Army Corps of Engineers, Public Affairs, 302 General Lee Avenue, Brooklyn, NY 11252, at justin.m.ward@usace.army.mil or at (347) 370-4550.

FOR FURTHER INFORMATION CONTACT: Mr. Justin Ward, U.S. Army Corps of Engineers, Public Affairs.

SUPPLEMENTARY INFORMATION: None.

Dated: December 18, 2013.
Amy M. Guise,
Chief, Planning Division, Baltimore District, U.S. Army Corps of Engineers.

[FR Doc. 2014-00151 Filed 1-8-14; 8:45 am]

BILLING CODE 3720-58-P